DEPARTMENT OF ENERGY

Federal Energy Regulatory Commission

Sunshine Act Meeting Notice

February 14, 2008.

The following notice of meeting is published pursuant to section 3(a) of the Government in the Sunshine Act (Pub. L. 94-409), 5 U.S.C. 552b:

AGENCY HOLDING MEETING: Federal Energy Regulatory Commission.

DATE AND TIME: February 21, 2008, 10 a.m.

PLACE: Room 2C, 888 First Street, NE., Washington, DC 20426.

STATUS: Open.

MATTERS TO BE CONSIDERED: Agenda

* Note—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

930th—Meeting

Regular Meeting
[February 21, 2008, 10 a.m.]
Item No. | Docket No. | Company
Administrative Agenda
A-1 | AD02-1-000 | Agency Administrative Matters.
A-2 | AD02-7-000 | Customer Matters, Reliability, Security and Market Operations.
A-3 | AD06-3-000 | Energy Market Update.
Electric
E-1 | AD07-7-000 RM07-19-000. | Wholesale Competition in Regions with Organized Electric Markets.
E-2 | RM07-15-000 | Cross-Subsidization Restrictions on Affiliate Transactions.
E-3 | RM07-21-000 | Blanket Authorization Under FPA Section 203.
E-4 | PL07-1-001 | FPA Section 203 Supplemental Policy Statement.
E-5 | ER91-195-000 | Western Systems Power Pool.
| EL07-69-000 | Western Systems Power Pool Agreement.
E-6 | ER07-476-000 | ISO New England Inc. and New England Power Pool.
| RM06-8-000 | Long-Term Firm Transmission Rights in Organized Electricity Markets.
E-7 | ER07-1372-000 ER07-1372-001. | Midwest Independent Transmission System Operator, Inc.
E-8 | ER06-278-000 | The Nevada Hydro Company, Inc.
| ER06-278-001
| ER06-278-002
| ER06-278-003
| ER06-278-004
| ER06-278-005
| ER06-278-006
E-9 | OMITTED
E-10 | RC08-1-000 | Southeastern Power Administration.
E-11 | RC07-3-001 | Lee County, Florida.
| RC07-5-001 | Solid Waste Authority of Palm Beach County, Florida.
E-12 | RM06-16-000 | Mandatory Reliability Standards for the Bulk-Power System.
| RR08-1-000 | North American Electric Reliability Corporation.
E-13 | EF07-2021-000 | United States Department of Energy—Bonneville Power Administration.
E-14 | OMITTED
E-15 | ER02-136-007 ER02-136-008. | Allegheny Power.
E-16 | ER05-715-002 | ISO New England Inc.
E-17 | EL02-129-004 | Southern California Water Company.
E-18 | EL05-50-003 | Jersey Central Power & Light Company v. Atlantic City Electric Company, Delmarva Power & Light Company, PECO Energy Company and Public Service Electric and Gas Company.
E-19 | ER05-18-002 | New Dominion Energy Cooperative.
| ER05-309-002 | Old Dominion Electric Cooperative.
E-20 | ER07-429-001 | New York State Reliability Council.
E-21 | ER07-547-002 | ISO New England Inc. and New England Power Pool.
E-22 | ER07-799-002 ER07-799-003. EL07-61-001. EL07-61-002. | Norwalk Power, LLC.
E-23 | ER06-1420-002 ER06-1420-003. | Midwest Independent Transmission System Operator, Inc.
E-24 | ER93-465-039 | Florida Power & Light Company.
| ER93-465-040
| ER96-417-008
| ER96-417-009
| ER96-1375-009
| ER96-1375-010
| OA96-39-016
| OA96-39-017
| OA97-245-009
| OA97-245-010
E-25 | EL03-230-003 | ExxonMobil Corporation v. Entergy Services, Inc.
Gas
G-1 | RP06-231-003 RP06-231-004. | Norstar Operating, LLC v. Columbia Gas Transmission Corporation.
| RP06-365-001 | Columbia Gas Transmission Corporation.
| RP06-365-002
G-2 | RP07-509-003 | Columbia Gas Transmission Corporation.
G-3 | RP07-500-003 | Columbia Gulf Transmission Company.
G-4 | RP96-312-176 | Tennessee Gas Pipeline Company.
Hydro
H-1 | P-12447-001 | Fort Dodge Hydroelectric Development Company.
H-2 | P-7115-039 | Homestead Energy Resources, LLC.
H-3 | P-12911-005 | The Electric Plant Board of the City of Paducah, Kentucky.
H-4 | P-2426-208 | California Department of Water Resources and the City of Los Angeles.
H-5 | P-2225-011 DI07-1-001. | Public Utility District No. 1 of Pend Oreille County, Washington.
H-6 | P-1494-328 | Grand River Dam Authority.
Certificates
C-1 | CP07-430-000 | Kinder Morgan Interstate Gas Transmission LLC.
C-2 | CP04-13-004 | Saltville Gas Storage Company, LLC.
C-3 | OMITTED
C-4 | OMITTED
C-5 | CP08-60-000 | Arlington Storage Company, LLC.
C-6 | CP06-459-001 | Transwestern Pipeline Company, LLC.
| CP07-9-001 | El Paso Natural Gas Company.
C-7 | CP07-32-002 | Gulf South Pipeline Company, LP.
| CP07-32-003
| CP07-105-001
| CP07-110-001 | Destin Pipeline Company, L.L.C.
C-8 | CP06-407-001 | Missouri Interstate Gas, LLC.
| CP06-408-001 | Missouri Gas Company, LLC.
| CP06-409-001 | Missouri Pipeline Company, LLC.
| RP06-274-001 | Missouri Interstate Gas, LLC.
| CP06-407-002
C-9 | CP06-470-001 | Southern LNG, Inc.
| CP06-471-002 | Elba Express Company, L.L.C.
| CP06-472-002
| CP06-473-002
| CP06-474-002 | Southern Natural Gas Company.
C-10 | OMITTED
C-11 | OMITTED

Kimberly D. Bose,
Secretary.

A free webcast of this event is available through http://www.ferc.gov. Anyone with Internet access who desires to view this event can do so by navigating to http://www.ferc.gov's Calendar of Events and locating this event in the Calendar. The event will contain a link to its webcast. The Capitol Connection provides technical support for the free webcasts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-3287 Filed 2-20-08; 8:45 am]

BILLING CODE 6717-01-P